DEPARTMENT OF VETERANS AFFAIRS

Scientific Review and Evaluation Board for Health Services Research and Development Service, Meeting

The Department of Veterans Affairs, Veterans Health Administration, gives notice under Public Law 92-463, that a meeting of the Scientific Review and Evaluation Board for Health Services Research and Development Service will be held at The San Francisco Marriott Fisherman's Wharf, 1200 Columbus Avenue, San Francisco, CA 94133, January 22-24, 2001. On January 22, the meeting will convene from 5:30 p.m. until 9 p.m. and on January 23 through January 24 from 8 a.m. until 5 p.m. The purpose of the meeting is to review research and development applications concerned with the measurement and evaluation of health care services and with testing new methods of health care delivery and management. Applications are reviewed for scientific and technical merit. Recommendations regarding funding are prepared for the Chief Research and Development Officer.

This meeting will be open to the public at the start of the January 22 session for approximately one half-hour to cover administrative matters and to discuss the general status of the program. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to frustrate significantly implementation of proposed agency action regarding such research projects). As provided by the subsection 10(d) of Public Law 92-463, as amended by Public Law 94-409, closing portions of these meetings is in accordance with 5 U.S.C. 552b(c)(6) and (9)(B).

Those who plan to attend the open session should contact the Assistant Director, Scientific Review (124F), Health Services Research and Development Service, Department of Veterans Affairs, 1400 I Street, NW., Suite 780, Washington, DC, at least five days before the meeting. For further information, call (202) 408-3665.

Dated: August 22, 2000.
By Direction of the Acting Secretary.
Marvin R. Eason,
Committee Management Officer.

[FR Doc. 00-22049 Filed 8-28-00; 8:45 am]

BILLING CODE 8320-01-M